DEPARTMENT OF ENERGY

Federal Energy Regulatory Commission

[Docket No. CP04-24-001]

Gulf South Pipeline Company, LP; Notice of Application

March 4, 2005.

Take notice that on March 3, 2005, Gulf South Pipeline Company, LP (Gulf South) located at 20 East Greenway Plaza, Suite 900, Houston, Texas 77046, filed, in Docket No. CP04-24-001, an application pursuant to section 7(b) of the Natural Gas Act (NGA), as amended, and part 157 of the Commission regulations for an amendment to the order issued by the Commission in Docket No. CP04-24-000 on March 30, 2004. Gulf South states that the purpose of the amendment is to reflect a change in the buyer of Gulf South's Panola County Facilities (to Duke Energy Field Services, L.P.) and to reflect a reduced sales price. This filing may be viewed on the Commission's Web site at http://www.ferc.gov using the “eLibrary” link. Enter the docket number excluding the last three digits in the docket number field to access the document. For assistance, call (202) 502-8222 or for TTY, call (202) 208-1659.

Any questions concerning this application may be directed to J. Kyle Stephens, Director of Certificates, Gulf South Pipeline Company, LP, 20 East Greenway Plaza, Houston, Texas, 77046, or: phone (713) 544-7309, fax (713) 544-3540, e-mail kyle.stephens@gulfsouthpl.com.

Any person desiring to intervene or to protest this filing must file in accordance with Rules 211 and 214 of the Commission's Rules of Practice and Procedure (18 CFR 385.211 and 385.214). Protests will be considered by the Commission in determining the appropriate action to be taken, but will not serve to make the protestants parties to the proceeding. Any person wishing to become a party must file a notice of intervention or a motion to intervene, as appropriate. Such notices, motions, or protests must be filed on or before the comment date indicated below. Anyone filing a motion to intervene or to protest must serve a copy of that document on the Applicant. On or before the comment date, it is not necessary to serve motions to intervene or protests on persons other than the Applicant.

The Commission encourages electronic submission of protests and interventions in lieu of paper using the eFiling link at http://www.ferc.gov. Persons unable to file electronically should submit an original and 14 copies of the protest or intervention to the Federal Energy Regulatory Commission, 888 First Street, NE., Washington, DC 20426.

Comment Date: March 14, 2005.

Magalie R. Salas,
Secretary.

[FR Doc. E5-1041 Filed 3-11-05; 8:45 am]

BILLING CODE 6717-01-P